DEPARTMENT OF HOMELAND SECURITY

Coast Guard

33 CFR Part 117

[Docket No. USCG-2023-0532]

RIN 1625-AA09

Drawbridge Operation Regulation; Sloop Channel, Nassau County, NY

AGENCY: Coast Guard, DHS.

ACTION: Temporary interim rule.

SUMMARY: The Coast Guard is temporarily modifying the operating schedule that governs the Meadowbrook State Parkway Bridge across Sloop Channel, mile 12.8, at Nassau County, NY. The bridge is currently operating under single leaf openings to complete a bridge rehabilitation; however, during repairs, the Meadowbrook State Parkway Bridge experienced electrical failure in the submarine cables. Until the bridge repairs are complete the bridge openings must be minimized.

DATES: This temporary interim rule is effective May 31, 2024 through 12:01 a.m. on January 2, 2025.

ADDRESSES: To view documents mentioned in this preamble as being available in the docket, go to https://www.regulations.gov. Type the docket number (USCG-2023-0532) in the “SEARCH” box and click “SEARCH”. In the Document Type column, select “Supporting & Related Material.”

FOR FURTHER INFORMATION CONTACT: If you have questions on this temporary interim rule, call or email, Coast Guard Bridge Management Specialist, Stephanie Lopez at telephone 212-514-4335 or email Stephanie.E.Lopez@uscg.mil.

SUPPLEMENTARY INFORMATION:

I. Table of Abbreviations

CFR Code of Federal Regulations

DHS Department of Homeland Security

FR Federal Register

NPRM Notice of proposed rulemaking

Pub. L. Public Law

§ Section

U.S.C. United States Code

NYSDOT New York State Department of Transportation

TFR Temporary Final Rule

II. Background Information and Regulatory History

On September 19, 2023, the Coast Guard issued a general deviation to NYSDOT allowing the bridge owner, NYSDOT, to deviate from the current operating schedule in 33 CFR 117.799(h) for the Meadowbrook State Parkway Bridge. This deviation allowed the bridge to operate under single leaf operations from September 20, 2023, to March 17, 2024, in order to perform bridge deck replacement.

Since the actual scope of the work would take longer than the allowable time limit of the General Deviation, the Coast Guard published a notice of proposed rulemaking (NPRM) on October 3, 2023, entitled “Drawbridge Operation Regulation; Sloop Channel, Nassau County, NY,” in the Federal Register (88 FR 68033). There we stated why we issued the NPRM and invited comments on our proposed regulatory action related to the rehabilitation of the Meadowbrook State Parkway Bridge. During the comment period that ended November 2, 2023, we received no comments.

On February 23, 2024, the Coast Guard published a Temporary Final Rule (TFR) entitled “Drawbridge Operation Regulation; Sloop Channel, Nassau County, NY,” in the Federal Register (89 FR 13911). There we stated why we issued the TFR and implemented the change to the operating schedule for maintenance of the bridge.

The Coast Guard is issuing this Temporary Interim Rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is impracticable. The bridge is currently operating under single leaf openings to conduct a bridge rehabilitation until May 15, 2024, and the bridge cannot be brought back to normal operation. Also, on February 29, 2024, the Meadowbrook State Parkway Bridge experienced electrical failure in the submarine cables which has now added substantial time needed for repair and will further restrict the operation of the bridge. Due to the extensive damage to the submarine cables and delay in material procurement, NYSDOT predicts the repairs will take an estimate of 8 months to complete.

However, we will be soliciting comments on this rulemaking during the first 30 days while this rule is in effect. If the Coast Guard determines that changes to the temporary interim rule are necessary, we will publish a secondary temporary interim rule or other appropriate document. Under 5 U.S.C. 553(d)(3), the Coast Guard finds that good cause exists for making it effective in less than 30 days after publication in the Federal Register because it is impracticable. Due to the damage the bridge suffered on February 29, 2024; the bridge cannot comply with the current operating regulation in 33 CFR 117.799(h) which states the bridge shall open on signal if at least a one-half hour notice is given to the New York State Department of Transportation.

III. Legal Authority and Need for Rule

The Coast Guard is issuing this rule under authority in 33 U.S.C. 499. Meadowbrook State Parkway Bridge across Sloop Channel is a bascule bridge with a vertical clearance of 21 feet mean high water in the closed position and unlimited clearance in the open position. The Meadowbrook State Parkway Bridge normally operates under 33 CFR 117.799(h); however, paragraph (h) has been stayed and a temporary paragraph (k) was issued to conduct the rehabilitation of the bridge under the TFR.

The bridge is currently operating under single leaf openings to conduct bridge rehabilitation operations until May 15, 2024. On February 29, 2024, NYSDOT notified USCG of a bridge failure that occurred at the Meadowbrook State Parkway. The Meadowbrook State Parkway Bridge suffered damage to the submarine cables disabling the bridge from operating under the current regulation which states the bridge must open on signal if at least a one-half hour notice is given. NYSDOT is requesting a 3-hour notice be required for bridge openings during set times.

IV. Discussion of the Rule

NYSDOT is proposing single leaf openings with a 3-hour advance notice for the following times: 5 a.m., 8 a.m., 11 a.m., 2 p.m., 5 p.m., 8 p.m., and 11 p.m., from May 31, 2024 through May 15, 2024. From May 16, 2024, until January 2, 2025, the bridge will perform double leaf openings with a 3-hour advance notice for the following times: 5 a.m., 8 a.m., 11 a.m., 2 p.m., 5 p.m., 8 p.m., and 11 p.m. No bridge openings will be performed outside of these time frames except for emergency vessels. This temporary interim rule is required while NYSDOT performs bridge repairs. 33 CFR 117.799(h) will remain stayed until January 2, 2025, and the current temporary paragraph (k) will be revised to reflect the new temporary operating schedule.

V. Regulatory Analyses

We developed this rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, it has not been reviewed by the Office of Management and Budget (OMB).

This regulatory action determination is based on the ability that vessels can still transit the bridge given 3 hours advanced notice.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1. Revision No. 01.3.

2. Section 117.799 is amended by staying paragraph (h), adding a reserved paragraph (j), and adding paragraph (k).

The additions read as follows:

§ 117.799 Long Island, New York Inland Waterway from East Rockaway Inlet to Shinnecock Canal.

* * * * *

(j) [Reserved]

(k) The draw of the Meadowbrook State Parkway Bridge across Sloop Channel, mile 12.8, shall open under single leaf openings with a 3-hour advance notice for the following times: 5 a.m., 8 a.m., 11 a.m., 2 p.m., 5 p.m., 8 p.m., and 11 p.m., May 31, 2024 through May 15, 2024. From May 16, 2024, until January 2, 2025, the bridge will perform double leaf openings with a 3-hour advance notice for the following times: 5 a.m., 8 a.m., 11 a.m., 2 p.m., 5 p.m., 8 p.m., and 11 p.m. No bridge openings will be performed outside of these time frames.

M.E. Platt,
Rear Admiral, U.S. Coast Guard, Commander, First Coast Guard District.

[FR Doc. 2024-11837 Filed 5-30-24; 8:45 am]

BILLING CODE 9110-04-P